DEPARTMENT OF ENERGY

Federal Energy Regulatory Commission

[Project No. 1494-232]

Grand River Dam Authority; Notice Granting Late Interventions

April 14, 2003.

On June 28, 2001, the Commission issued a notice of the application for a non-capacity amendment of license filed by the Grand River Dam Authority for the Pensacola Dam Project No. 1494, located on the Grand (Neosho) River in the Oklahoma Counties of Craig, Delaware, Mayes, and Ottawa. The notice established August 10, 2001, as the deadline for filing motions to intervene in the proceeding.

Late motions to intervene in the proceeding were filed by the following entities and individuals: Mike Brady on September 7, 2001; James P. Freeman, trusteee of the Jeri I. Freeman Trust on November 28, 2001; Cheryl Lenhart on November 4, 2002; and Cheryl Creekmore on November 5, 2002. Granting the late motions to intervene will not unduly delay or disrupt the proceeding, or prejudice other parties to it. Therefore, pursuant to rule 214,¹ the late motions to intervene in the proceeding are granted, subject to the Commission's rules and regulations.

¹ 18 CFR 385.214 (2002).

Magalie R. Salas,
Secretary.

[FR Doc. 03-9557 Filed 4-17-03; 8:45 am]

BILLING CODE 6717-01-P